SECURITIES AND EXCHANGE COMMISSION

[File No. 500-1]

In the Matter of Aampro Group, Inc.; Order of Suspension of Trading

January 10, 2008.

It appears to the Securities and Exchange Commission that there is a lack of current and accurate information concerning the securities of Aampro Group, Inc. (“Aampro”) because of questions regarding the adequacy and accuracy of information in Aampro's public filings concerning, among other things: (1) The company's business operations, (2) the company's business combinations, and (3) the company's current financial condition.

The Commission is of the opinion that the public interest and the protection of investors require a suspension of trading in the securities of the above-listed company.

Therefore, it is ordered, pursuant to Section 12(k) of the Securities Exchange Act of 1934, that trading in the above-listed company is suspended for the period from 9:30 a.m. EST January 10, 2008, through 11:59 p.m. EST on January 24, 2008.

By the Commission.
Nancy M. Morris,
Secretary.

[FR Doc. 08-104 Filed 1-11-08; 8:45 am]

BILLING CODE 8011-01-P